DEPARTMENT OF ENERGY

Federal Energy Regulatory Commission

Combined Notice of Filings #1

Take notice that the Commission received the following electric corporate filings:

Docket Numbers: EC14-126-000.

Applicants: Wisconsin Energy Corporation, Integrys Energy Group, Inc.

Description: Joint Application for Authorization of Disposition of Jurisdictional Assets and Merger Under FPA Section 203 of Wisconsin Energy Corporation and Integrys Energy Group, Inc.

Filed Date: 8/15/14.

Accession Number: 20140815-5173.

Comments Due: 5 p.m. ET 10/17/14.

Take notice that the Commission received the following exempt wholesale generator filings:

Docket Numbers: EG14-87-000.

Applicants: Energia Sierra Juarez, S. de R.L. de C.V.

Description: Notice of Self-Certification of Exempt Wholesale Generator Status of Energia Sierra Juarez, S. de R.L. de C.V.

Filed Date: 8/19/14.

Accession Number: 20140819-5124.

Comments Due: 5 p.m. ET 9/9/14.

Docket Numbers: EG14-88-000.

Applicants: Energia Sierra Juarez U.S. Transmission, LLC.

Description: Notice of Self-Certification of Exempt Wholesale Generator Stats of Energia Sierra Juarez U.S. Transmission, LLC.

Filed Date: 8/19/14.

Accession Number: 20140819-5126.

Comments Due: 5 p.m. ET 9/9/14.

Take notice that the Commission received the following electric rate filings:

Docket Numbers: ER10-3286-006; ER10-3299-005; ER10-3310-006.

Applicants: Millennium Power Partners, L.P., New Athens Generating Company, LLC, New Harquahala Generating Company, LLC.

Description: Notice of Non-Material Change in Status of Millennium Power Partners, L.P., et. al.

Filed Date: 8/18/14.

Accession Number: 20140818-5267.

Comments Due: 5 p.m. ET 9/8/14.

Docket Numbers: ER13-2300-001.

Applicants: Arizona Public Service Company.

Description: Refund Report for Rate Schedule No. 198 to be effective N/A.

Filed Date: 8/18/14.

Accession Number: 20140818-5211.

Comments Due: 5 p.m. ET 9/8/14.

Docket Numbers: ER14-2361-001.

Applicants: Sunwave Gas & Power New York, Inc.

Description: Supplemental MBR Filing for Sunwave Gas and Power NY to be effective 10/1/2014.

Filed Date: 8/18/14.

Accession Number: 20140818-5220.

Comments Due: 5 p.m. ET 9/8/14.

Docket Numbers: ER14-2439-002.

Applicants: Midcontinent Independent System Operator, Inc.

Description: 2014-08-19_SA 2677 2nd Substitute J278 GIA GRE-Pleasant Valley Wind to be effective 7/17/2014.

Filed Date: 8/19/14.

Accession Number: 20140819-5122.

Comments Due: 5 p.m. ET 9/9/14.

Docket Numbers: ER14-2672-000.

Applicants: EDF Energy Services, LLC.

Description: EDF Energy Services MBR Application to be effective 8/19/2014.

Filed Date: 8/18/14.

Accession Number: 20140818-5199.

Comments Due: 5 p.m. ET 9/8/14.

Docket Numbers: ER14-2673-000.

Applicants: PJM Interconnection, L.L.C.

Description: Original Service Agreement No. 3888 (NQ88) to be effective 12/16/2014.

Filed Date: 8/18/14.

Accession Number: 20140818-5243.

Comments Due: 5 p.m. ET 9/8/14.

Docket Numbers: ER14-2674-000.

Applicants: Southern California Edison Company.

Description: SGIA and Distribution Service Agreement with Little Rock-Pham Solar, LLC to be effective 8/20/2014.

Filed Date: 8/19/14.

Accession Number: 20140819-5001.

Comments Due: 5 p.m. ET 9/9/14.

Docket Numbers: ER14-2675-000.

Applicants: Southwest Power Pool, Inc.

Description: 2652R2 Waverly Wind Farm LLC GIA to be effective 7/31/2014.

Filed Date: 8/19/14.

Accession Number: 20140819-5074.

Comments Due: 5 p.m. ET 9/9/14.

Docket Numbers: ER14-2676-000.

Applicants: Dry Lake Wind Power, LLC.

Description: Normal filing name change to be effective 8/20/2014.

Filed Date: 8/19/14.

Accession Number: 20140819-5139.

Comments Due: 5 p.m. ET 9/9/14.

Docket Numbers: ER14-2677-000.

Applicants: Pacific Gas and Electric Company.

Description: Yerba Buena BESS Pilot SGIA Service Agreement No. 265 Filing to be effective 9/1/2014.

Filed Date: 8/19/14.

Accession Number: 20140819-5158.

Comments Due: 5 p.m. ET 9/9/14.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: August 19, 2014.
Nathaniel J. Davis, Sr.,
Deputy Secretary.

[FR Doc. 2014-20264 Filed 8-25-14; 8:45 am]

BILLING CODE 6717-01-P